DEPARTMENT OF LABOR

Bureau of Labor Statistics

Data Users Advisory Committee; Notice of Meeting and Agenda

The Bureau of Labor Statistics Data Users Advisory Committee will meet on Tuesday, November 19, 2013. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration

9:00 a.m. Commissioner's welcome and review of agency developments

9:30 a.m. The impact of the Affordable Care Act (ACA) on BLS health benefits data

10:45 a.m. Measures of health care costs using CPI and PPI data

11:00 a.m. Users' needs for BLS employment and price data to understand the impact of the ACA

11:45 p.m. Error corrections—Before and after publication

1:30 p.m. Model wages using NCS and OES data

2:30 p.m. Report from the Taxonomy and Lexicon Team

3:45 p.m. New PPI Aggregation Structure

4:45 p.m. Meeting wrap-up

The meeting is open to the public. Any questions concerning the meeting should be directed to Kathy Mele, Data Users Advisory Committee, on 202.691.6102. Individuals who require special accommodations should contact Ms. Mele at least two days prior to the meeting date.

Signed at Washington, DC, this 21st day of October 2013.
Eric P. Molina,
Acting Chief, Division of Management Systems, Bureau of Labor Statistics.

[FR Doc. 2013-25071 Filed 10-24-13; 8:45 am]

BILLING CODE 4510-24-P